DEPARTMENT OF HEALTH AND HUMAN SERVICES

Administration for Children and Families

Office of Head Start; Request for Nominations for the Secretary's Advisory Committee on Re-Designation of Head Start Grantees

AGENCY: Administration for Children and Families, Department of Health and Human Services (HHS).

ACTION: Notice.

SUMMARY: This notice announces the establishment of and invites nominations for members to the Secretary's Advisory Committee on Re-Designation of Head Start Grantees. The Secretary is required by section 641 of Public Law (Pub. L.) 110-134 to convene an expert panel to provide advice and recommendations on the development of a transparent, reliable and valid system for designation renewal of Head Start grantees. The panel is required to be convened by March 12, 2008.

Nominations: We will consider nominations if they are received no later than fifteen (15) days from the date of publication of this notice. Submissions will only be taken electronically, although individuals for whom this procedure introduces a barrier may make alternative arrangements through the contact information below. Nominations in the format described below should be submitted to colleen.rathgeb@acf.hhs.gov.

FOR FURTHER INFORMATION CONTACT: Colleen Rathgeb, Office of Head Start, e-mail colleen.rathgeb@acf.hhs.gov or (202) 205-7378.

SUPPLEMENTARY INFORMATION:

I. Background

The Secretary is required by section 641 of Public Law 110-134 to convene an expert panel to provide advice and recommendations on the development of a transparent, reliable and valid system for designation renewal to determine if a Head Start agency is delivering a high-quality and comprehensive Head Start program that meets the educational, health, nutritional, and social needs of the children and families it serves, and meets program and financial management requirements and the program performance standards.

The Charter requires that the panel meet up to three times. The panel shall consist of a non-voting chair and seven expert panel members who have expertise in the areas outlined below. Members of the panel serve terms up to two years based on the needs of the panel.

The Department will give close attention to equitable geographic distribution and to minority and female representation so long as the effectiveness of the Committee is not diminished.

II. Criteria for Nominees

All members must have technical expertise to enable them to participate fully in the work of the panel. The panel will consist of a non-voting chair and seven members, one member within each of the following demonstrated competency areas, as evidenced by training, expertise and experience:

• Early childhood program accreditation,

• research on early childhood development,

• governance and finance of nonprofit organizations,

• delivery of services to populations with special needs and their families,

• assessment and evaluation of programs serving young children,

• an employee of the Office of Head Start, and

• an executive director of a Head Start agency.

Any interested person or organization may nominate one or more qualified individuals. Self-nominations will also be accepted. Each nomination must include the following:

• Letter of nomination, including which specific expertise above the person is being nominated to fill,

• curriculum vitae of the nominee, and

• statement from the nominee that the nominee is willing to serve on the panel.

III. Copies of the Charter

To obtain a copy of the panel's Charter, submit a written request to the above contact.

Dated: January 8, 2008.
Daniel C. Schneider,
Acting Assistant Secretary, Administration for Children and Families.

[FR Doc. 08-88 Filed 1-11-08; 8:45 am]

BILLING CODE 4184-01-P